DEPARTMENT OF STATE

[Public Notice: 10911]

Commission on Unalienable Rights; Notice of Open Meeting

The Commission on Unalienable Rights (“Commission”) will meet from 1:15 until 6:15 p.m., on Wednesday, October 23 and from 8:00 a.m. until 12:30 p.m. on Friday, November 1. Both meetings will be in Washington, DC at the State Department. Participants are asked to use the 23rd Street entrance to gain access to each meeting. The meetings will be opened by Secretary of State Michael Pompeo and directed by the Chair of the Commission and Learned Hand Professor of Law at Harvard Law School, Mary Ann Glendon. The Commission serves the U.S. government in a solely advisory capacity, and provides advice concerning principles related to human rights. The discussion at the October 23 meeting will include topics related to human rights and the American founding. The discussion of founding principles will continue on November 1, with focus on the American rights tradition after World War II.

This meeting is open to the public, though seating is limited. Entry to the building is controlled. To obtain pre-clearance for entry, members of the public planning to attend must, no later than October 15 for the October 23 meeting, and October 25 for the November 1 meeting, provide their full name and email address to the RSVP email address at RSVPCommission@state.gov. Non-Department of State attendees should also provide date of birth and identifying data (driver's license or passport number). Requests for reasonable accommodation should be made at the same time as the notification. Late requests will be considered but might not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (State-33) and Security Records (State-36). See https://www.state.gov/privacy/sorns/index.htm. Provision of this information is voluntary, but failure to provide accurate information may impede your ability to register for the event. Email addresses are collected for purposes of notification should the meeting be postponed or cancelled due to weather or other exigencies.

For additional information, contact Duncan Walker, Policy Planning Staff, at (202) 647-2236, or walkerdh3@state.gov.

Duncan H. Walker,
Designated Federal Officer, Department of State.

[FR Doc. 2019-21334 Filed 10-1-19; 8:45 am]

BILLING CODE 4710-10-P